DEPARTMENT OF THE INTERIOR

National Park Service

[NPS-WASO-NRNHL-17677; PPWOCRADI0, PCU00RP14.R50000]

National Register of Historic Places; Notification of Pending Nominations and Related Actions

Nominations for the following properties being considered for listing or related actions in the National Register were received by the National Park Service before February 7, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 20, 2015. Before including your address, phone number, email address, or other personal identifying information in your comment, you should be aware that your entire comment—including your personal identifying information—may be made publicly available at any time. While you can ask us in your comment to withhold your personal identifying information from public review, we cannot guarantee that we will be able to do so.

Dated: February 22, 2015.
J. Paul Loether,
Chief, National Register of Historic Places/National Historic Landmarks Program.

CALIFORNIA

Alameda County

Oakland Lamp Works, 1614 Campbell St., Oakland, 15000098

Kern County

Sebastian Indian Reserve Discontiguous Archeological District, Address Restricted, Tejon Ranch, 15000099

San Mateo County

POLARIS (research vessel), 597 Seaport Blvd., Redwood City, 15000100

CONNECTICUT

Hartford County

New Britain Public High School Campus, 50 Bassett & 161 S. Main Sts., New Britain, 15000101

GEORGIA

Elbert County

Forest Avenue Historic District, Roughly bounded by Jones, Chestnut & W. Church Sts., Laurel & Oak Drs., Brookwood & Lake Forest Cirs., Forest & College, Elberton, 15000102

McIntosh County

Ashantilly, 15591 GA 99, Darien, 15000103

MONTANA

Carbon County

Hi Bug Historic District (Boundary Decrease), 301 N. Hauser, Red Lodge, 15000104

NEBRASKA

Custer County

Groat, Stillman P., House, 432 N. 10th St., Broken Bow, 15000105

NORTH DAKOTA

Ramsey County

St. Olaf Lutheran Church, 601 6th St. NE., Devils Lake, 15000106

WISCONSIN

Barron County

Franklin School, 1011 S. Main St., Rice Lake, 15000107

Marathon County

Schofield School, 1310 S. Grand Ave., Schofield, 15000108

Sauk County

Harrisburg School, E7646 Cty. Rd. B, Troy, 15000109

A request for removal has been received for the following resources:

MARYLAND

Frederick County

Edgewood, N. of Frederick off Poole Jones Rd., Frederick, 79001129

NORTH DAKOTA

Slope County

Original Slope County Courthouse, (North Dakota County Courthouses TR) 2nd St., Amidon, 85002994

[FR Doc. 2015-05021 Filed 3-4-15; 8:45 am]

BILLING CODE 4312-51-P